DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
California:
Santa Barbara (FEMA Docket No.: B-2214). | City of Goleta (21-09-1693P). | The Honorable Paula Perotte, Mayor, City of Goleta, 130 Cremona Drive, Suite B, Goleta, CA 93117. | Public Works Department, 130 Cremona Drive, Suite B, Goleta, CA 93117. | May 23, 2022 | 060771
Connecticut:
Litchfield (FEMA Docket No.: B-2216). | Town of Goshen (21-01-1073P). | The Honorable Todd M. Carusillo, First Selectman, Town of Goshen Board of Selectmen, 42A North Street, Goshen CT 06756. | Town Hall, 42A North Street, Goshen CT 06756. | May 31, 2022 | 090177
Florida:
Broward (FEMA Docket No.: B-2216). | City of Deerfield Beach, (21-04-3153P). | Mr. Dave Santucci, Manager, City of Deerfield Beach, 150 Northeast 2nd Avenue, Deerfield Beach, FL 33442. | Environmental Services Department, 200 Goolsby Boulevard, Deerfield Beach, FL 33442. | May 16, 2022 | 125101
Broward (FEMA Docket No.: B-2216). | City of Tamarac (21-04-2763P). | The Honorable Michelle J. Gomez, Mayor, City of Tamarac, 7525 Northwest 88th, Avenue, Tamarac, FL 33321. | Building Department, 7525 Northwest 88th Avenue, Tamarac, FL 33321. | May 23, 2022 | 120058
Charlotte (FEMA Docket No.: B-2209). | Unincorporated areas of Charlotte County (21-04-3081P). | The Honorable Mr. Bill Truex, Chairman, Charlotte County Board of Commissioners, 18500 Murdock Circle, Suite 536, Port Charlotte, FL 33948. | Charlotte County, Community Development Department, 18400 Murdock Circle, Port Charlotte, FL 33948. | May 11, 2022 | 120061
Lake (FEMA Docket No.: B-2216). | City of Minneola (21-04-5355P). | The Honorable Pat Kelley, Mayor, City of Minneola, 800 North U.S. Highway 27, Minneola, FL 34755. | City Hall, 800 North U.S. Highway 27, Minneola, FL 34755. | May 31, 2022 | 120412
Lee (FEMA Docket No.: B-2216). | City of Bonita Springs (21-04-4847P). | The Honorable Rick Steinmeyer, Mayor, City of Bonita Springs, 9101 Bonita Beach Road, Bonita Springs, FL 34135. | Community Development Department, 9220 Bonita Beach Road, Suite 111, Bonita Springs, FL 34135. | May 23, 2022 | 120680
Manatee (FEMA Docket No.: B-2220). | Unincorporated areas of Manatee County (21-04-2678P). | The Honorable Vanessa Baugh, Chair, Manatee County Board of Commissioners, 1112 Manatee Avenue West, Bradenton, FL 34205. | Manatee County Building and Development Services Department, 1112 Manatee Avenue West, Bradenton, FL 34205. | May 26, 2022 | 120153
Monroe (FEMA Docket No.: B-2214). | Unincorporated areas of Monroe County (21-04-3823P). | The Honorable Michelle Coldiron, Mayor, Monroe County Board of Commissioners, 25 Ships Way, Big Pine Key, FL 33043. | Monroe County Building Department, 2798 Overseas Highway, Suite 300, Marathon, FL 33050. | May 16, 2022 | 125129
Monroe (FEMA Docket No.: B-2216). | Unincorporated areas of Monroe County (21-04-4119P). | The Honorable Michelle Coldiron, Mayor, Monroe County Board of Commissioners, 25 Ships Way, Big Pine Key, FL 33043. | Monroe County Building Department, 2798 Overseas Highway, Suite 300, Marathon, FL 33050. | May 31, 2022 | 125129
Monroe (FEMA Docket No.: B-2216). | Unincorporated areas of Monroe County (21-04-5348P). | The Honorable Michelle Coldiron, Mayor, Monroe County Board of Commissioners, 25 Ships Way, Big Pine Key, FL 33043. | Monroe County Building Department, 2798 Overseas Highway, Suite 300, Marathon, FL 33050. | May 23, 2022 | 125129
Pinellas (FEMA Docket No.: B-2216). | Unincorporated areas of Pinellas County (21-04-4469P). | The Honorable David Eggers, Chairman, Pinellas County Board of Commissioners, 315 Court Street, Clearwater, FL 33756. | Pinellas County Public Works Department, 22211 U.S. Highway 19 North, Clearwater, FL 33765. | May 26, 2022 | 125139
Polk (FEMA Docket No.: B-2209). | Unincorporated areas of Polk County (21-04-1193P). | Mr. Bill Beasley, Polk County Manager, 330 West Church Street, Bartow, FL 33831. | Polk County Land Development Division, 330 West Church Street, Bartow, FL 33831. | Apr. 28, 2022 | 120261
Sarasota (FEMA Docket No.: B-2216). | City of Sarasota (21-04-4914P). | The Honorable Erik Arroyo, Mayor, City of Sarasota, 1565 1st Street, Room 101, Sarasota, FL 34236. | Development Services Department, 1565 1st Street, Sarasota, FL 34236. | May 26, 2022 | 125150
Sarasota (FEMA Docket No.: B-2216). | Unincorporated areas of Sarasota County (21-04-4979P). | The Honorable Alan Maio, Chairman, Sarasota County Board of Commissioners, 1660 Ringling Boulevard, Sarasota, FL 34236. | Sarasota County Planning and Development Services Department, 1001 Sarasota Center Boulevard, Sarasota, FL 34240. | May 23, 2022 | 125144
Sarasota (FEMA Docket No.: B-2214). | Unincorporated areas of Sarasota County (21-04-6095P). | The Honorable Alan Maio, Chairman, Sarasota County Board of Commissioners, 1660 Ringling Boulevard, Sarasota, FL 34236. | Sarasota County Planning and Development Services Department, 1001 Sarasota Center Boulevard, Sarasota, FL 34240. | May 13, 2022 | 125144
Sumter (FEMA Docket No.: B-2216). | City of Wildwood (21-04-4694P). | The Honorable Ed Wolf, Mayor, City of Wildwood, 100 North Main Street, Wildwood, FL 34785. | City Hall, 100 North Main Street, Wildwood, FL 34785. | May 23, 2022 | 120299
Sumter (FEMA Docket No.: B-2216). | Unincorporated areas of Sumter County (21-04-4694P). | The Honorable Gary Breeden, Chairman, Sumter County Board of Commissioners, 7375 Powell Road, Wildwood, FL 34785. | Sumter County Development Services Department, 7375 Powell Road, Wildwood, FL 34785. | May 23, 2022 | 120296
Georgia:
Muscogee (FEMA Docket No.: B-2216). | Columbus Consolidated Government (21-04-2724P). | The Honorable B.H. “Skip” Henderson III, Mayor, Columbus Consolidated Government, 100 10th Street, Columbus, GA 31901. | Planning Department, 420 10th Street, 2nd Floor, Columbus, GA 31901. | May 6, 2022 | 135158
Kentucky:
Hardin (FEMA Docket No.: B-2216). | City of Elizabethtown (21-04-1017P). | The Honorable Jeffrey H. Gregory, Mayor, City of Elizabethtown, 200 West Dixie Avenue, Elizabethtown, KY 42702. | Stormwater Management Department, 200 West Dixie Avenue, Elizabethtown, KY 42702. | May 25, 2022 | 210095
Pike (FEMA Docket No.: B-2214). | Unincorporated areas of Pike County (21-04-4538P). | The Honorable Ray S. Jones, Judge Executive, Pike County, 146 Main Street, Pikeville, KY 41501. | Pike County Court House, 146 Main Street, Pikeville, KY 41501. | May 16, 2022 | 210298
Louisiana:
East Baton Rouge (FEMA Docket No.: B-2214). | City of Baton Rouge (21-06-3439P). | The Honorable Sharon Weston L. Broome, Mayor, City of Baton Rouge, P.O. Box 1471, Baton Rouge, LA 70821. | Department of Development, 1100 Laurel Street, Room 200, Baton Rouge, LA 70802. | May 5, 2022 | 220159
Lafayette (FEMA Docket No.: B-2220). | City of Lafayette (21-06-3367P). | The Honorable Josh Guillory, Mayor-President, Lafayette Consolidated Government, P.O. Box 4017-C, Lafayette, LA 70502. | Department of Community Development and Planning, 220 West Willow Street, Building B, Lafayette, LA 70501. | May 13, 2022 | 220105
Maine: York (FEMA Docket No.: B-2220). | Town of Lyman (21-01-0760P). | The Honorable William Single, Chairman, Town of Lyman Board of Selectmen, 11 South Waterboro Road, Lyman, ME 04002. | Town Hall, 11 South Waterboro Road, Lyman, ME 04002. | May 26, 2022 | 230195
Massachusetts:
Essex (FEMA Docket No.: B-2220). | City of Lynn (21-01-1255P). | The Honorable Thomas M. McGee, Mayor, City of Lynn, 3 City Hall Square, Room 306, Lynn, MA 01901. | Building Department, 3 City Hall Square, Lynn, MA 01901. | May 10, 2022 | 250088
Suffolk (FEMA Docket No.: B-2226). | City of Revere (21-01-1182P). | The Honorable Brian M. Arrigo, Mayor, City of Revere, 281 Broadway, Revere, MA 02151. | Department of Planning and Development, 281 Broadway, Revere, MA 02151. | May 12, 2022 | 250288
Montana:
Gallatin (FEMA Docket No.: B-2214). | Unincorporated areas of Gallatin County (21-08-1190P). | The Honorable Scott MacFarlane, Chairman, Gallatin County Commission, 311 West Main Street, Room 306, Bozeman, MT 59715. | Gallatin County Department of Planning and Community Development, 311 West Main Street, Room 108, Bozeman, MT 59715. | May 6, 2022 | 300027
Pennsylvania:
Montgomery (FEMA Docket No.: B-2220). | Township of Upper Merion (21-03-1078P). | Mr. Anthony Hamaday, Manager, Township of Upper Merion, 175 West Valley Forge Road, King of Prussia, PA 19406. | Public Works Department, 175 West Valley Forge Road, King of Prussia, PA 19406. | May 16, 2022 | 420957
Texas:
Collin (FEMA Docket No.: B-2216). | City of Wylie (21-06-2443P). | The Honorable Matthew Porter, Mayor, City of Wylie, 300 Country Club Road, Building 100, Wylie, TX 75098. | City Hall, 300 Country Club Road, Building 100, Wylie, TX 75098. | May 9, 2022 | 480759
Collin (FEMA Docket No.: B-2216). | Unincorporated areas of Collin County (21-06-2443P). | The Honorable Chris Hill, Collin County Judge, 2300 Bloomdale Road, Suite 4192, McKinney, TX 75071. | Collin County Engineering Department, 4690 Community Avenue, Suite 22, McKinney, TX 75071. | May 9, 2022 | 480130
Harris (FEMA Docket No.: B-2226). | Unincorporated areas of Harris County (21-06-1628P). | The Honorable Lina Hidalgo, Harris County Judge, 1001 Preston Street, Suite 911, Houston, TX 77002. | Harris County Permits Office, 10555 Northwest Freeway, Suite 120, Houston, TX 77002. | May 31, 2022 | 480287
Virginia:
Independent City (FEMA Docket No.: B-2220). | City of Winchester (21-03-0399P). | The Honorable John D. Smith, Jr., Mayor, City of Winchester, 15 North Cameron Street, Winchester, VA 22601. | City Hall, 15 North Cameron Street, Winchester, VA 22601. | May 11, 2022 | 510173

[FR Doc. 2022-14267 Filed 7-1-22; 8:45 am]

BILLING CODE 9110-12-P